DEPARTMENT OF TRANSPORTATION

Federal Aviation Administration

14 CFR Part 39

[Docket No. FAA-2018-0077; Product Identifier 2017-NM-126-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A319 and A320 series airplanes; and A321-111, -112, -131, -211, -212, -213, -231, and -232 airplanes. This proposed AD was prompted by reports of battery retaining rod failures due to quality defects of the material used during parts manufacturing. This proposed AD would require a detailed inspection of the battery retaining rods to identify the rod manufacturer, replacement of the battery retaining rods with serviceable rods if necessary, and the addition of the applicable service information label on each rod if necessary. We are proposing this AD to address the unsafe condition on these products.

DATES: We must receive comments on this proposed AD by March 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; internet http://www.airbus.com. You may view this service information at the FAA, Transport Standards Branch, 1601 Lind Avenue SW, Renton, WA. For information on the availability of this material at the FAA, call 425-227-1221.

Examining the AD Docket

You may examine the AD docket on the internet at http://www.regulations.gov by searching for and locating Docket No. FAA-2018-0077; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 1601 Lind Avenue SW, Renton, Washington 98057-3356; telephone 425-227-1405; fax 425-227-1149.

SUPPLEMENTARY INFORMATION:

Comments Invited

We invite you to send any written relevant data, views, or arguments about this proposal. Send your comments to an address listed under the ADDRESSES section. Include “Docket No. FAA-2018-0077; Product Identifier 2017-NM-126-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2017-0161R1, dated September 19, 2017; corrected September 20, 2017 (referred to after this as the Mandatory Continuing Airworthiness Information, or “the MCAI”), to correct an unsafe condition for certain Airbus Model A319 and A320 series airplanes; and A321-111, -112, -131, -211, -212, -213, -231, and -232 airplanes. The MCAI states:

Several occurrences have been reported of battery rod failures on certain Airbus aeroplanes. Subsequent examination of broken rod parts determined that these failures were due to quality defects of the material used during parts manufacturing. Each battery is secured on an aeroplane by two rods. Failure of one rod, in case of severe turbulence during flight or hard landing, could lead to battery displacement, or roll on the remaining rod side, up to a point where the remaining rod could be disengaged. The battery could ultimately detach from its housing and damage relays, connectors, contactor boxes, air ducts and surrounding structure.

This condition, if not detected and corrected, could lead to the loss of the normal electrical generation not followed by an automatic recovery of essential network.

To address this potential unsafe condition, Airbus issued Alert Operators Transmission (AOT) A92N001-16 (later revised) and EASA issued AD 2016-0204 [which corresponds to FAA AD 2016-25-24 (81 FR 90958, December 16, 2016)] requiring repetitive general visual inspections (GVI) of the four battery rods (two per battery), and, in case of findings, replacement of battery rods.

Since that [EASA] AD was issued, the manufacturer of the broken battery retaining rods has been identified, which allows proper identification of the affected parts and their withdrawal from service. Consequently, Airbus issued [service bulletin] SB A320-92-1116 and SB A320-92-1118 to provide the necessary instructions to the affected operators. No rods delivered as spare parts are affected by the manufacturing issue.

For the reason described above, this [EASA] AD retains the requirements of EASA AD 2016-0204, which is superseded, and requires replacement of battery retaining rods depending on manufacturer identification. This [EASA] AD also provides a terminating action for the repetitive inspections.

You may examine the MCAI in the AD docket on the internet at http://www.regulations.gov by searching for and locating Docket No. FAA-2018-0077.

Although the MCAI has superseded EASA AD 2016-0204, this NPRM would not supersede AD 2016-25-24. Rather, we have determined that a stand-alone AD would be more appropriate to address the changes in the MCAI. This NPRM would require a detailed inspection of the battery retaining rods to identify the rod manufacturer, replacement of the battery retaining rods with serviceable rods if necessary, and the addition of the applicable service information label on each rod if necessary. Accomplishment of the proposed actions would then terminate all requirements of AD 2016-25-24.

Related Service Information Under 1 CFR Part 51

Airbus has issued Service Bulletin A320-92-1116, Revision 00, dated January 31, 2017; and Service Bulletin A320-92-1118, Revision 00, dated January 31, 2017. This service information describes a detailed inspection of the battery retaining rods to identify the rod manufacturer, replacement of the battery retaining rods with serviceable rods if necessary, and adding the applicable service information label on each rod if necessary. These documents are distinct since they apply to different airplane models. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 330 airplanes of U.S. registry.

We estimate the following costs to comply with this proposed AD:

Estimated Costs
Action | Labor cost | Parts cost | Cost per product | Cost on U.S. operators
Inspection | 1 work-hour × $85 per hour = $85 | $0 | $85 | $28,050

We estimate the following costs to do any necessary replacement that would be required based on the results of the proposed inspection. We have no way of determining the number of aircraft that might need this replacement:

On-Condition Costs
Action | Labor cost | Parts cost | Cost per product
Replacement | 1 work-hour × $85 per hour = $85 | $0 | $85

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2018-0077; Product Identifier 2017-NM-126-AD.

(a) Comments Due Date

We must receive comments by March 29, 2018.

(b) Affected ADs

This AD affects AD 2016-25-24, Amendment 39-18750 (81 FR 90958, December 16, 2016) (“AD 2016-25-24”).

(c) Applicability

This AD applies to Airbus Model A319-111, -112, -113, -114, -115, -131, -132, and -133 airplanes; A320-211, -212, -214, -216, -231, -232, -233, -251N, and -271N airplanes; and A321-111, -112, -131, -211, -212, -213, -231, and -232 airplanes, certificated in any category, as identified in Airbus Service Bulletin A320-92-1116, Revision 00, dated January 31, 2017; or Airbus Service Bulletin A320-92-1118, Revision 00, dated January 31, 2017.

(d) Subject

Air Transport Association (ATA) of America Code 92, Electrical system installation.

(e) Reason

This AD was prompted by reports of battery rod failures due to quality defects of the material used during parts manufacturing. We are issuing this AD to detect and correct broken battery retaining rods, which, in the event of a hard landing or severe turbulence, could cause the battery to detach from its housing, resulting in damage to other electrical equipment and surrounding structure. This condition could lead to loss of normal electrical power generation and subsequent inability to restore electrical power to essential airplane systems.

(f) Compliance

Comply with this AD within the compliance times specified, unless already done.

(g) Definition of a Serviceable Rod

For the purpose of this AD, a serviceable battery retaining rod is defined in paragraphs (g)(1) or (g)(2) of this AD.

(1) A battery retaining rod provided as a spare part by Airbus.

(2) A battery retaining rod previously fitted on a battery support assembly installed on an airplane manufacturer serial number that is not specified in Airbus Service Bulletin A320-92-1116, Revision 00, dated January 31, 2017 (for Airbus Model A319 and A320 series airplanes; and A321-111, -112, -131, -211, -212, -213, -231, and -232 airplanes); or Airbus Service Bulletin A320-92-1118, Revision 00, dated January 31, 2017 (for Airbus Model A320-251N and -271N airplanes).

(h) Identification of Affected Parts

Within 24 months after the effective date of this AD: Accomplish a detailed inspection of the battery retaining rods to identify the rod manufacturer, in accordance with the Accomplishment Instructions of the Airbus Service Bulletin A320-92-1116, Revision 00, dated January 31, 2017 (for Airbus Model A319 and A320 series airplanes; and A321-111, -112, -131, -211, -212, -213, -231, and -232 airplanes); or Airbus Service Bulletin A320-92-1118, Revision 00, dated January 31, 2017 (for Airbus Model A320-251N and -271N airplanes).

(i) Replacement of Affected Parts if Marking Is Found on Battery Support Assembly

If, during the inspection specified in paragraph (h) of this AD, the quality stamp on the battery support assembly is found marked with an “SA” manufacturer identification, before further flight, replace the battery retaining rods with serviceable rods, in accordance with the Accomplishment Instructions of the Airbus Service Bulletin A320-92-1116, Revision 00, dated January 31, 2017 (for Airbus Model A319 and A320 series airplanes; and A321-111, -112, -131, -211, -212, -213, -231, and -232 airplanes); or Airbus Service Bulletin A320-92-1118, Revision 00, dated January 31, 2017 (for Airbus Model A320-251N and -271N airplanes).

(j) Actions if No Marking Is Found on Battery Support Assembly

If, during the inspection specified in paragraph (h) of this AD, no marking is found on the quality stamp of the battery support assembly, add the applicable service information label on each battery retaining rod (replacement of the battery retaining rods is not required), in accordance with the Accomplishment Instructions of Airbus Service Bulletin A320-92-1116, Revision 00, dated January 31, 2017 (for Airbus Model A319 and A320 series airplanes; and A321-111, -112, -131, -211, -212, -213, -231, and -232 airplanes); or Airbus Service Bulletin A320-92-1118, Revision 00, dated January 31, 2017 (for Airbus Model A320-251N and -271N airplanes).

(k) Parts Installation Prohibition

As of the effective date of this AD, no person may install, on any airplane, a non-serviceable battery retaining rod.

(l) Terminating Action

Replacement of all battery retaining rods marked “SA” with a serviceable rod as required by paragraph (i) of this AD, or application of service information label on each rod, as required by paragraph (j) of this AD, as applicable, constitutes terminating action for all requirements of AD 2016-25-24 for that airplane.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2017-0161R1, dated September 19, 2017; corrected September 20, 2017; for related information. This MCAI may be found in the AD docket on the Internet at http://www.regulations.gov by searching for and locating Docket No. FAA-2018-0077.

(2) For more information about this AD, contact Sanjay Ralhan, Aerospace Engineer, International Section, Transport Standards Branch, FAA, 1601 Lind Avenue SW, Renton, Washington 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com. You may view this service information at the FAA, Transport Standards Branch, 1601 Lind Avenue SW, Renton, WA. For information on the availability of this material at the FAA, call 425-227-1221.

Issued in Renton, Washington, on February 2, 2018.
Michael Kaszycki,
Acting Director, System Oversight Division, Aircraft Certification Service.

[FR Doc. 2018-02754 Filed 2-9-18; 8:45 am]

BILLING CODE 4910-13-P